DEPARTMENT OF DEFENSE

Office of the Secretary

[Docket ID: DoD-2008-OS-0054]

Privacy Act of 1974; System of Records

AGENCY: National Reconnaissance Office, DoD.

ACTION: Notice to Alter a System of Records.

SUMMARY: The National Reconnaissance Office is proposing to alter a system of records notice in its existing inventory of record systems subject to the Privacy Act of 1974, (5 U.S.C. 552a), as amended.

DATES: This proposed action will be effective without further notice on June 18, 2008 unless comments are received which result in a contrary determination.

ADDRESSES: Send comments to the FOIA/Privacy Official, National Reconnaissance Office, Information Access and Release, 14675 Lee Road, Chantilly, VA 20151-1715.

FOR FURTHER INFORMATION CONTACT: Contact the FOIA/NRO Privacy Official at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on April 28, 2008, to the House Committee on Oversight and Government Reform, the Senate Committee on Governmental Affairs, and the Office of Management and Budget (OMB) pursuant to paragraph 4c of Appendix I, ‘Federal Agency Responsibilities for Maintaining Records About Individuals’, to OMB Circular No. A-130, dated February 8, 1996 (February 20, 1996, 61 FR 6427).

Dated: May 5, 2008.
Patricia L. Toppings,
OSD Federal Register Liaison Officer, Department of Defense.

QNRO-24

System name:

Administrative Personnel Management Systems (October 3, 2006, 71 FR 58379).

Changes:

* * * * *

Categories of Records in the system:

In the first paragraph, add “grade or equivalent, employee photo, personal e-mail address, military status, biometric data (to include hair color, eye color, weight, height, blood type, race), mother's maiden name and birth data, father's name and birth data, dependent names and birth data, and employee relationship.”

In the fourth paragraph, add “loan data.”

* * * * *

Purpose(s):

After emergency recall rosters and contact information, add “to support records and information management programs;”.

* * * * *

Safeguards:

Delete entry and replace with “Records are stored in a secure, gated facility with guard and badge controls. Computer terminal access is password protected. Access to and use of these records are limited to staff whose official duties require such access.”

* * * * *

QNRO-24

System name:

Administrative Personnel Management Systems.

System location:

The National Reconnaissance Office, 14675 Lee Road, Chantilly, VA 20151-1715.

Categories of individuals covered by the system:

All NRO civilian, military, and contract personnel.

Categories of records in the system:

Personal Information such as name, aliases or nicknames, Social Security Number (SSN), date of birth, place of birth, home address, home telephone number, cell phone number, pager, education, spouse name, emergency contact information, vehicle and tag information, gender, nationality, citizenship, marital status, age, annual salary, grade or equivalent, wage type, ethnicity, disability, personal assignment code, employee photo, personal email address, military status, biometric data (to include hair color, eye color, weight, height, blood type, race), mother's maiden name and birth data, father's name and birth data, dependent names and birth data, and employee relationship.

Work related information such as work e-mail address, accesses, parent organization, work telephone number, employee number, company, company address, position number and title, rank and date, agency/organization/office arrival and departure dates, assignment history, labor type, pay grade, network logon, location, career service, employee status (active/inactive), duty title, last assignment, badge numbers, personal classification number, space professional codes; employee timecards and leave records; and military specialty codes (job identifier).

Performance related information such as awards, performance report due dates, raters, training history (course name, date, hours, course provider, certificate, program call), Contracting Officers Technical Representative (COTR) certifications and date, and Individual Development Plan (IDP) courses.

Travel related information such as government credit card number and expiration date, airline/hotel/rental car information and frequent flyer/club numbers, airline seating preference, miles from home to office, miles from home to airport, and loan data.

Safety related information such as workplace violence protection issues and reports.

Other information such as property checked out to individual, report closeout dates, and any other information deemed necessary to manage personnel.

Authority for maintenance of the system:

5 U.S.C. 301, Departmental Regulations; National Security Act of 1947, as amended, 50 U.S.C. 401, et seq.; and E.O. 9397 (SSN).

Purpose(s):

To manage, supervise, and administer NRO personnel support programs relating to personnel management, official travel, timecards and leave records, awards, training, loan of property, security, emergency recall rosters and contact information; to support records and information management programs; to support organizational and personnel reporting requirements; to support organizational and strategic planning and workforce modeling; to support workplace violence protection programs; to support diversity initiatives; and to respond to personnel or related taskings.

Routine uses of records maintained in the system, including categories of users and the purposes of such uses:

In addition to those disclosures generally permitted under 5 U.S.C. 552a(b) of the Privacy Act, these records or information contained therein may specifically be disclosed outside the National Reconnaissance Office as a routine use pursuant to 5 U.S.C. 552a(b)(3) as follows:

The DoD `Blanket Routines Uses' published at the beginning of the National Reconnaissance Office's compilation of systems of records notices apply to this system.

Policies and practices for storing, retrieving, accessing, retaining, and disposing of records in the system:

Storage:

Paper records in file folders and electronic storage media.

Retrievability:

Information may be retrieved by an individual's name, Social Security Number (SSN), employee number, home or work telephone number, parent organization, company, and/or position number.

Safeguards:

Records are stored in a secure, gated facility with guards, badges and password access. Computer terminal access is password protected. Access to and use of these records are limited to personnel whose official duties require access on a need-to-know basis.

Retention and disposal:

Office administrative files, tracking and control files, and property inventory records are temporary; they are kept for 2 years from the date of the list or date of the report.

Training administrative files are temporary; they are kept for 3 years.

Supervisory files are temporary; they are kept for 1 year.

Security reports generated from information systems are temporary; they are kept for 5 years. Data files created consisting of summarized information are temporary; they are kept until no longer needed.

Reports created in response to any tasking from Congress, Community Management Staff, DoD and other external agencies are temporary; they are kept until superseded or when no longer needed.

Award related files such as recommendations, decisions, and announcements are temporary; they are kept for 25 years. Electronic documentation used to create the award related files is destroyed 180 days after the record copy has been produced.

Timecard and leave records are destroyed after 6 years or GAO audit. Employee personal safety and violence protection records are destroyed after 3 years old unless retention is authorized for official purposes.

System manager(s) and address:

Director, The National Reconnaissance Office, 14675 Lee Road, Chantilly, VA 20151-1715.

Notification procedure:

Individuals seeking to determine whether information about themselves is contained in this system should address written inquiries to the National Reconnaissance Office, Information Access and Release Center, 14675 Lee Road, Chantilly, VA 20151-1715.

Requests should include full name and any aliases or nicknames, address, Social Security Number (SSN), current citizenship status, and date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking access to information about themselves contained in this system should address written inquiries to the National Reconnaissance Office, Information Access and Release Center, 14675 Lee Road, Chantilly, VA 20151-1715.

Requests should include full name and any aliases or nicknames, address, Social Security Number (SSN), current citizenship status, and date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The National Reconnaissance Office rules for accessing records, for contesting contents and appealing initial agency determinations are published in National Reconnaissance Office Directive 110-3b and National Reconnaissance Office Instruction 110-3-1; 32 CFR part 326; or may be obtained from the Privacy Act Coordinator, National Reconnaissance Office, 14675 Lee Road, Chantilly, VA 20151-1715.

Record source categories:

Information is supplied by the individual, by persons other than the individual, and by documentation gathered in the background investigation, and other government agencies.

Exemptions claimed for the system:

None.

[FR Doc. E8-11138 Filed 5-16-08; 8:45 am]

BILLING CODE 5001-06-P